DEPARTMENT OF THE INTERIOR

Fish and Wildlife Service

[Docket No. FWS-R5-MB-2025-1497; FXMB1231099BPP0-267-FF09M21200; OMB Control Number 1018-0195]

Agency Information Collection Activities; Northeast Region Hunter Participation Surveys

AGENCY: Fish and Wildlife Service, Interior.

ACTION: Notice of information collection; request for comment.

SUMMARY: In accordance with the Paperwork Reduction Act of 1995 (PRA), we, the U.S. Fish and Wildlife Service (Service), are proposing to revise a currently approved information collection.

DATES: Interested persons are invited to submit comments on or before April 28, 2026.

ADDRESSES: Send your comments on the information collection request (ICR) by one of the following methods (please reference Office of Management and Budget (OMB) Control No. 1018-0195 in the subject line of your comment):

• Internet (preferred): https://www.regulations.gov. Follow the instructions for submitting comments on Docket No. FWS-HQ-MB-2025-1497.

• U.S. mail: Service Information Collection Clearance Officer, U.S. Fish and Wildlife Service, 5275 Leesburg Pike, MS: PRB (JAO/3W); Falls Church, VA 22041-3803.

FOR FURTHER INFORMATION CONTACT: Madonna L. Baucum, Service Information Collection Clearance Officer, by email at Info_Coll@fws.gov, or by telephone at (703) 358-2503. Individuals in the United States who are deaf, deafblind, hard of hearing, or have a speech disability may dial 711 (TTY, TDD, or TeleBraille) to access telecommunications relay services. Individuals outside the United States should use the relay services offered within their country to make international calls to the point-of-contact in the United States. You may also view the ICR at https://www.reginfo.gov/public/do/PRAMain.

SUPPLEMENTARY INFORMATION: In accordance with the Paperwork Reduction Act (44 U.S.C. 3501 et seq.) and its implementing regulations at 5 CFR part 1320, all information collections require approval under the PRA. We may not conduct or sponsor, and you are not required to respond to, a collection of information unless it displays a currently valid OMB control number.

As part of our continuing effort to reduce paperwork and respondent burdens, we are again inviting the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. Before including your address, phone number, email address, or other personal identifying information in your comment, you should be aware that your entire comment—including your personal identifying information—may be publicly available at any time. While you can ask us in your comment to withhold your personal identifying information from public review, we cannot guarantee that we will be able to do so.

Abstract: The Service has overall Federal responsibility for managing the Nation's fish and wildlife resources. One of the Service's priorities is to provide the public with wildlife-based outdoor recreation opportunities on National Wildlife Refuges, National Fish Hatcheries, and other Service lands (collectively, refuges). These outdoor recreation opportunities include hunting, which is an important opportunity for people to connect with nature, harvest food, and assist the Service in managing wildlife populations.

The National Wildlife Refuge System Administration Act, as amended by the National Wildlife Refuge System Improvement Act (the Act; 16 U.S.C. 668dd et seq.) stipulates that refuges undergo a comprehensive conservation planning process that, among other things, must look at the compatibility of wildlife-dependent recreation (including hunting) on refuges. We will use the information from the proposed survey effort to inform planning on refuges as mandated by the Act.

Hunting on refuges is regulated by both State and Federal laws, as well as through refuge-specific regulations. These refuge-specific regulations are made in accordance with hunt plans required to be developed for each refuge. These hunt plans outline refuge-specific bag limits, season dates, areas open and closed to hunting, allowed hunting time, and other requirements. The hunt plans are an important tool that refuges use to manage harvest, safety, and visitor experience.

Creating hunt plans relies on sound biological and social data. Understanding hunter experience, preference, and harvest helps refuge managers and planners tailor hunt plans to suit biological and visitor objectives and maintain a safe environment for hunters and non-hunting visitors.

To ensure the surveys were comprehensive, the Service convened an interdisciplinary team made up of biologists, managers, visitor services specialists, social scientists, and law enforcement officers. The team identified data gaps needed to inform future hunt plan development, identified safety concerns, and considered methods to better understand hunter preference in order to improve visitor experience.

Proposed Changes to the Survey Instruments

The Services proposes the following non-substantive changes to the existing information collections below:

1. Form 3-2557, “Hunter Satisfaction Survey”—

a. Big game question 2ii—The question currently reads, “What method (s) of take did you use?” To minimize confusion to respondents, we propose to change that question to “What method(s) of take did you use, regardless of whether you harvested an animal?”

b. Small game question 4—The question currently reads, “What methods did you use to hunt small game on the refuge?” To minimize confusion to respondents, we propose to change that question to “What method(s) of take did you use to hunt small game on the refuge, regardless of whether you harvested an animal?”

2. Form 3-2558, “Spring Turkey Hunter Participation Survey”—

a. Question 3 currently reads, “What method of take did you use to hunt turkey during the previous spring turkey hunting season?” To minimize confusion to respondents, we propose to change the question to “What method of take did you use to hunt turkey during the previous spring turkey hunting season, regardless of whether you harvested an animal?”

The public may request copies of any form or document contained in this information collection by sending a request to the Service Information Collection Clearance Officer in ADDRESSES, above.

Title of Collection: Northeast Region Hunter Participation Surveys.

OMB Control Number: 1018-0195.

Form Numbers: Forms 3-2557 and 3-2558.

Type of Review: Revision of a currently approved collection.

Respondents/Affected Public: Individuals.

Respondent's Obligation: Voluntary.

Total Estimated Number of Annual Respondents: 100.

Total Estimated Number of Annual Responses: 100.

Estimated Completion Time per Response: 20 minutes for Form 3-2557 and 10 minutes for Form 3-2558.

Total Estimated Number of Annual Burden Hours: 25.

Frequency of Collection: On occasion.

Total Estimated Annual Nonhour Burden Cost: None.

The authority for this action is the Paperwork Reduction Act of 1995 (44 U.S.C. 3501 et seq.).

Madonna Baucum,
Information Collection Clearance Officer, U.S. Fish and Wildlife Service.

[FR Doc. 2026-03946 Filed 2-26-26; 8:45 am]

BILLING CODE 4333-15-P